COMMODITY FUTURES TRADING COMMISSION

Public Information Collection Requirement Submitted to Office of Management and Budget (OMB) for Review

AGENCY: Commodity Futures Trading Commission.

ACTION: Notice of Submission of Information Collection #3038-0017, Market Surveys.

SUMMARY: The Commodity Futures Trading Commission has submitted information collection 3038-0017, Market Surveys, to OMB for review and clearance under the Paperwork Reduction Act of 1995 (Pub. L. 104-13). The information collected pursuant to these rules is in the public interest and is necessary for market surveillance.

DATES: Comments must be received on or before April 5, 2010.

ADDRESSES: Persons wishing to comment on this information collection should contact Gary J. Martinaitis, Division of Market Oversight, U.S. Commodity Futures Trading Commission, 1155 21st Street, NW., Washington, DC 20581; Fax (202) 418-5527; or E-mail: gmartinaitis@cftc.gov.

SUPPLEMENTARY INFORMATION: An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on December 30, 2009 (74 FR 69076).

Title: Market Surveys.

Control Number: 3038-0017.

Action: This is a request for extension of a currently approved information collection.

Respondents: Businesses (excluding small businesses).

Estimated Annual Burden: 700 total hours.

Respondents | Businesses
Regulation (17 CFR) | 21.02
Estimated number of respondents | 400
Reports annually by each respondent | 1
Total annual responses | 400
Estimated number of hours per response | 1.75

Dated: February 26, 2010.
David A. Stawick,
Secretary to the Commission.

[FR Doc. 2010-4535 Filed 3-3-10; 8:45 am]

BILLING CODE P